DEPARTMENT OF TRANSPORTATION

Surface Transportation Board

[STB Finance Docket No. 33860]

Trans-Global Solutions, Inc. d/b/a Austin Area Terminal Railroad—Operation Exemption—Capital Metropolitan Transportation Authority

Trans-Global Solutions, Inc. d/b/a Austin Area Terminal Railroad (AATR), a noncarrier, has filed a notice of exemption under 49 CFR 1150.31 to operate approximately 162 miles of rail line owned by Capital Metropolitan Authority (CMTA),¹ between milepost AUNW-MP0.0 (SPT-MP57.00), west of Giddings, TX, and milepost AUNW-MP154.07 (SPT MP 99.04), at Llano, TX, including the Marble Falls Branch (6.43 miles), the Scobee Spur (3.3 miles), and the Burnet Spur (0.93 miles), in Bastrop, Burnet, Lee, Llano, Travis and Williamson Counties, TX. The lines have been operated previously by Central of Tennessee Railway & Navigation Company Incorporated D/B/A The Longhorn Railway Company.² AATR states that its annual revenues will not exceed those that would qualify it as a Class III rail carrier and that its revenues are not projected to exceed $5 million.

¹ See Capital Metropolitan Transportation Authority—Acquisition Exemption—City of Austin, TX, STB Finance Docket No. 33596 (STB served May 27, 1998).

² See Central of Tennessee Railway & Navigation Company Incorporated D/B/A The Longhorn Railway Company—Change of Operator Exemption—The City of Austin, TX, STB Finance Docket No. 32885 (Sub-No. 1) (STB served Apr. 18, 1996).

The transaction was scheduled to be consummated on or after March 16, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33860, must be filed with the Surface Transportation Board, Office of the Secretary, Case Control Unit, 1925 K Street, N.W., Washington, DC 20423-0001. In addition, one copy of each pleading must be served on Edward D. Greenberg, Esq., Galland, Kharasch, Greenberg, Fellman & Swirsky, P.C., Canal Square, 1054 Thirty-First Street, N.W., Washington, DC 20007-4492.

Board decisions and notices are available on our website at “WWW.STB.DOT.GOV.”

Decided: March 28, 2000.
By the Board, David M. Konschnik, Director, Office of Proceedings.
Vernon A. Williams,
Secretary.

[FR Doc. 00-8238 Filed 4-3-00; 8:45 am]

BILLING CODE 4915-00-P